FEDERAL COMMUNICATIONS COMMISSION

Network Reliability and Interoperability Council Meeting Postponed

AGENCY: Federal Communications Commission.

ACTION: Notice of postponement of public meeting.

SUMMARY: In accordance with the Federal Advisory Committee Act, 5 U.S.C. App. 2, Public Law 92-463, as amended, this notice advises interested persons that the meeting of the Network Reliability and Interoperability Council scheduled for September 21, 2005 has been cancelled and will be rescheduled for a date to be subsequently announced.

FOR FURTHER INFORMATION CONTACT: Jeffery Goldthorp at (202) 418-1096, TTY (202) 418-2989, or e-mail Jeffery-Goldthorp@fcc.gov.

Federal Communications Commission.
William F. Caton,
Deputy Secretary.

[FR Doc. 05-18697 Filed 9-16-05; 8:45 am]

BILLING CODE 6712-01-P